DEPARTMENT OF ENERGY

Federal Energy Regulatory Commission

[Project No. 13214-015]

Lock 12 Hydro Partners, LLC; Notice of Application Accepted for Filing, Soliciting Comments, Motions To Intervene, and Protests

Take notice that the following hydroelectric application has been filed with the Commission and is available for public inspection:

a. Type of Application: Request for a non-capacity amendment to the license.

b. Project No.: 13214-015.

c. Date Filed: December 15, 2017.

d. Applicant: Lock 12 Hydro Partners, LLC.

e. Name of Project: Ravenna Hydroelectric Project.

f. Location: This project will be located at the Kentucky River Authority's Lock and Dam No. 12 on the Kentucky River, near the Town of Ravenna, in Estill County, Kentucky.

g. Filed Pursuant to: Federal Power Act, 16 U.S.C. 791a-825r.

h. Applicant Contact: Mr. David Brown Kinloch, Lock 12 Hydro Partners, LLC, 414 S. Wenzel Street, Louisville, KY 40204, (502) 589-0975.

i. FERC Contact: Zeena Aljibury, (202) 502-6065, zeena.aljibury@ferc.gov.

j. Deadline for filing comments, motions to intervene, and protests: March 8, 2018.

The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-13214-015.

k. Description of Request: Lock 12 Hydro Partners, LLC requests approval for an amendment to the license for the Ravenna Hydroelectric Project. Lock 12 Hydro Partners, LLC is proposing to change the powerhouse design approved in the license to simplify the project's design and better protect the generating equipment during extreme floods that can occur on the Kentucky River. Lock 12 Hydro Partners, LLC is proposing to use 5 Flygt submersible turbine-generators with a total generating capacity of 2.64 megawatts (MW), as opposed to the authorized 4 conventional Kaplan turbines (also with a total generating capacity of 2.64 MW). The 5 Flygt turbine-generators would have a total hydraulic capacity of 2,193 cubic feet per second (cfs), as opposed to the total hydraulic capacity authorized for the Kaplan units of 2,100 cfs. The applicant states that this slight increase in the maximum hydraulic capacity should have no impact on fish entrainment since the inlet speed at the trashrack would still be well below the maximum inlet speed of 1.5 feet per second in the project license.

l. Locations of the Application: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208- 3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: February 6, 2018.
Kimberly D. Bose,
Secretary.

[FR Doc. 2018-02784 Filed 2-9-18; 8:45 am]

BILLING CODE 6717-01-P